DEPARTMENT OF TRANSPORTATION

Federal Aviation Administration

14 CFR Part 39

[Docket No. FAA-2010-0680; Directorate Identifier 2008-NM-195-AD; Amendment 39-16482; AD 2010-22-03]

RIN 2120-AA64

Airworthiness Directives; Airbus Model A310 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Analysis performed in the frame of the Extended Service Goal has led Airbus to modify the inspection programme [modification of thresholds, intervals and associated configurations] which is currently required by DGAC (Direction Générale de l'Aviation Civile) France AD F-2005-001.

This modified inspection programme is necessary to detect and prevent damage associated with a structural fatigue phenomenon of the rear spar internal angle and the tee fitting located in the centre wing box. This condition, if not corrected, could affect the structural integrity of the centre wing box.

* * * * *

The unsafe condition is reduced structural integrity of the wings. We are issuing this AD to require actions to correct the unsafe condition on these products.

DATES: This AD becomes effective December 3, 2010.

The Director of the Federal Register approved the incorporation by reference of certain publications listed in this AD as of December 3, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Discussion

We issued a notice of proposed rulemaking (NPRM) to amend 14 CFR part 39 to include an AD that would apply to the specified products. That NPRM was published in the Federal Register on July 13, 2010 (75 FR 39863), and proposed to supersede AD 2006-09-05, Amendment 39-14575 (71 FR 25921, May 3, 2006). That NPRM proposed to correct an unsafe condition for the specified products. The MCAI states:

Analysis performed in the frame of the Extended Service Goal has led Airbus to modify the inspection programme [modification of thresholds, intervals and associated configurations] which is currently required by DGAC (Direction Générale de l'Aviation Civile) France AD F-2005-001 [which corresponds to FAA AD 2006-09-05].

This modified inspection programme is necessary to detect and prevent damage associated with a structural fatigue phenomenon of the rear spar internal angle and the tee fitting located in the centre wing box. This condition, if not corrected, could affect the structural integrity of the centre wing box.

For the reason stated above, this new EASA AD retains the requirements of DGAC France AD F-2005-001, which is superseded, and refers to the latest revision of Airbus Service Bulletin (SB) A310-57-2047.

The unsafe condition is reduced structural integrity of the wings. This AD retains the requirements of AD 2006-09-05, but with certain reduced compliance times. The required actions include doing repetitive rotating probe inspections for any crack of the rear spar internal angle and the left and right sides of the tee fitting, and doing related investigative/corrective actions if necessary. The actions also include modifying the holes in the internal angle and tee fitting by cold expansion. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

Based on the service information, we estimate that this AD will affect about 66 products of U.S. registry.

The actions that are required by AD 2006-09-05 and retained in this AD take up to 600 work-hours per product, at an average labor rate of $85 per work hour. Required parts cost up to $38,900 per product. Based on these figures, the estimated cost of the currently required actions is up to $89,900 per product.

This new AD adds no new costs to affected operators; the manufacturer has modified the inspection program currently required by AD 2006-09-05. This AD reduces the compliance times required by the existing AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14575 (71 FR 25921, May 3, 2006) and adding the following new AD:

2010-22-03 Airbus: Amendment 39-16482. Docket No. FAA-2010-0680; Directorate Identifier 2008-NM-195-AD.

Effective Date

(a) This airworthiness directive (AD) becomes effective December 3, 2010.

Affected ADs

(b) This AD supersedes AD 2006-09-05, Amendment 39-14575. This AD also affects certain requirements of AD 98-26-01, Amendment 39-10942.

Applicability

(c) This AD applies to all Airbus Model A310-203, -204, -221, -222, -304, -322, -324, and -325 airplanes, certificated in any category.

Subject

(d) Air Transport Association (ATA) of America Code 57: Wings.

Reason

(e) The mandatory continuing airworthiness information (MCAI) states:

Analysis performed in the frame of the Extended Service Goal has led Airbus to modify the inspection programme [modification of thresholds, intervals and associated configurations] which is currently required by DGAC (Direction Générale de l'Aviation Civile) France AD F-2005-001 [which corresponds to FAA AD 2006-09-05].

This modified inspection programme is necessary to detect and prevent damage associated with a structural fatigue phenomenon of the rear spar internal angle and the tee fitting located in the centre wing box. This condition, if not corrected, could affect the structural integrity of the centre wing box.

* * * * *

The unsafe condition is reduced structural integrity of the wings.

Compliance

(f) You are responsible for having the actions required by this AD performed within the compliance times specified, unless the actions have already been done.

Restatement of Certain Requirements of AD 2006-09-05

Modification

(g) For all airplanes except those that are modified by Airbus Modifications 06672S6812, 06673S6813, and 07387S7974 in production: Within 60 months after June 7, 2006 (the effective date of AD 2006-09-05), modify the holes in the internal angle and tee fitting and do all applicable related investigative and corrective actions by accomplishing all the actions specified in the Accomplishment Instructions of Airbus Service Bulletin A310-57-2035, Revision 08, dated September 19, 2005; or Airbus Mandatory Service Bulletin A310-57-2035, Revision 10, dated March 25, 2008; except as required by paragraph (h) of this AD. Do all applicable related investigative and corrective actions before further flight. As of the effective date of this AD, use only Airbus Mandatory Service Bulletin A310-57-2035, Revision 10, dated March 25, 2008.

Contact the FAA

(h) Where the service information specified in Table 1 of this AD specifies to contact the manufacturer if certain cracks are found, before further flight, repair those conditions according to a method approved by either the Manager, International Branch, ANM-116, Transport Airplane Directorate, FAA; or the Direction Générale de l'Aviation Civile (DGAC) (or its delegated agent); or EASA (or its delegated agent).

Table 1—Service Information
Document | Revision | Date
Airbus Mandatory Service Bulletin A310-57-2035 | 10 | March 25, 2008.
Airbus Service Bulletin A310-57-2035 | 08 | September 19, 2005.

Actions Accomplished According to Previous Issues of Airbus Service Bulletin A310-57-2035

(i) Actions accomplished before June 7, 2006, in accordance with the service information specified in Table 2 of this AD, are considered acceptable for compliance with the corresponding actions specified in paragraph (g) of this AD.

Table 2—Previous Issues of Service Bulletin A310-57-2035
Document | Revision | Date
Airbus Service Bulletin A310-57-2035 | 1 | October 13, 1989.
Airbus Service Bulletin A310-57-2035 | 2 | February 26, 1990.
Airbus Service Bulletin A310-57-2035 | 3 | May 23, 1990.
Airbus Service Bulletin A310-57-2035 | 4 | April 15, 1992.
Airbus Service Bulletin A310-57-2035 | 5 | May 27, 1992.
Airbus Service Bulletin A310-57-2035 | 6 | March 8, 1994.
Airbus Service Bulletin A310-57-2035 | 7 | April 17, 1996.

New Requirements of This AD—Revised Compliance Times for Inspections Required by AD 2006-09-05

Initial and Repetitive Inspections of the Rear Spar Internal Angle

(j) For airplanes on which an inspection of the rear spar internal angle has not been done in accordance with Airbus Service Bulletin A310-57-2047 as of the effective date of this AD: At the later of the times specified in paragraphs (j)(1) and (j)(2) of this AD, do a rotating probe inspection for any crack of the rear spar internal angle located in the center wing box and do all applicable related investigative and corrective actions, in accordance with the Accomplishment Instructions of Airbus Service Bulletin A310-57-2047, Revision 08, dated July 2, 2009; except as required by paragraphs (n) and (o) of this AD. Do all applicable related investigative and corrective actions before further flight. Repeat the inspection thereafter at the applicable time specified in Table 4 of this AD. Certain compliance times are applicable to short range use, average flight time (AFT) equal to or less than 4 hours, or long range use, AFT exceeding 4 hours.

Note 1: To establish the AFT, divide the accumulated flight time (counted from the take-off up to the landing) by the number of accumulated flight cycles. This gives the average flight time per flight cycle.

(1) Within the applicable time specified in Table 3 of this AD.

(2) Within the applicable time specified in paragraph (j)(2)(i), (j)(2)(ii), or (j)(2)(iii) of this AD:

(i) For A310-203, -204, -221, and -222 airplanes: Within 700 flight cycles or 1,500 flight hours after the effective date of this AD, whichever occurs first.

(ii) For A310-304, -322, -324, and -325 short range airplanes: Within 700 flight cycles or 1,900 flight hours after the effective date of this AD, whichever occurs first.

(iii) For A310-304, -322, -324, and -325 long range airplanes: Within 500 flight cycles or 2,500 flight hours after the effective date of this AD, whichever occurs first.

Table 3—Initial Inspection Internal Angle
Model and configuration | Compliance time (whichever occurs first)
A310-203, -204, -221, and -222 airplanes on which Mod 6672S6812 and Mod 7387S7974 are not done | Before the accumulation of 9,200 total flight cycles | Before the accumulation of 18,500 total flight hours.
A310-203, -204, -221, and -222 airplanes on which Mod 6672S6812 and Mod 7387S7974 are done in production | Before the accumulation of 19,800 total flight cycles | Before the accumulation of 39,600 total flight hours.
A310-203, -204, -221, and -222 airplanes on which Mod 6672S6812 and Mod 7387S7974 are done in accordance with Airbus Service Bulletin A310-57-2035 and before the accumulation of 6,200 total flight cycles and 12,500 total flight hours | Within 19,800 flight cycles after the effective date of this AD | Within 39,600 flight hours after the effective date of this AD.
A310-203, -204, -221, and -222 airplanes on which Mod 6672S6812 and Mod 7387S7974 are done in accordance with Airbus Service Bulletin A310-57-2035 and are not done before the accumulation of 6,200 total flight cycles and 12,500 total flight hours | Within 8,200 flight cycles after the effective date of this AD | Within 16,400 flight hours after the effective date of this AD.
A310-304, -322, -324, and -325 short range airplanes on which Mod 6672S6812 and Mod 7387S7974 are not done | Before the accumulation of 7,500 total flight cycles | Before the accumulation of 21,100 total flight hours.
A310-304, -322, -324, and -325 long range airplanes on which Mod 6672S6812 and Mod 7387S7974 are not done | Before the accumulation of 5,300 total flight cycles | Before the accumulation of 26,900 total flight hours.
A310-304, -322, -324, and -325 short range airplanes on which Mod 6672S6812 and Mod 7387S7974 are done | Before the accumulation of 15,900 total flight cycles | Before the accumulation of 44,700 total flight hours.
A310-304, -322, -324, and -325 long range airplanes on which Mod 6672S6812 and Mod 7387S7974 are done in production | Before the accumulation of 11,300 total flight cycles | Before the accumulation of 56,900 total flight hours.
A310-304, -322, -324, and -325 short range airplanes on which Mod 6672S6812 and Mod 7387S7974 are done in accordance with Airbus Service Bulletin A310-57-2035 and before the accumulation of 4,700 total flight cycles and 13,100 total flight hours | Within 15,900 flight cycles after the effective date of this AD | Within 44,700 flight hours after the effective date of this AD.
A310-304, -322, -324, and -325 short range airplanes on which Mod 6672S6812 and Mod 7387S7974 are done in accordance with Airbus Service Bulletin A310-57-2035 and not done before the accumulation of 4,700 total flight cycles and 13,100 total flight hours | Within 8,500 flight cycles after the effective date of this AD | Within 23,800 flight hours after the effective date of this AD.
A310-304, -322, -324, and -325 long range airplanes on which Mod 6672S6812 and Mod 7387S7974 are done in accordance with Airbus Service Bulletin A310-57-2035 before the accumulation of 3,300 total flight cycles and 16,700 total flight hours | Within 11,300 flight cycles after the effective date of this AD | Within 56,900 flight hours after the effective date of this AD.
A310-304, -322, -324, and -325 long range airplanes on which Mod 6672S6812 and Mod 7387S7974 are done in accordance with Airbus Service Bulletin A310-57-2035 and not done before the accumulation of 3,300 total flight cycles and 16,700 total flight hours | Within 6,000 flight cycles after the effective date of this AD | Within 30,300 flight hours after the effective date of this AD.

Table 4—Repetitive Intervals
Model and configuration | Interval (not to exceed)
A310-203, -204, -221, and -222 airplanes | Within 7,200 flight cycles or 14,400 flight hours, whichever occurs first.
A310-304, -322, -324, and -325 short range airplanes | Within 6,800 flight cycles or 19,100 flight hours, whichever occurs first.
A310-304, -322, -324, and -325 long range airplanes | Within 4,800 flight cycles or 24,300 flight hours, whichever occurs first.

(k) For airplanes on which an inspection of the rear spar internal angle has been done in accordance with Airbus Service Bulletin A310-57-2047 as of the effective date of this AD: At the applicable time specified in paragraphs (k)(1), (k)(2), and (k)(3) of this AD, do a rotating probe inspection for any crack of the rear spar internal angle located in the center wing box and do all applicable related investigative and corrective actions, in accordance with the Accomplishment Instructions of Airbus Service Bulletin A310-57-2047, Revision 08, dated July 2, 2009; except as required by paragraphs (n) and (o) of this AD. Do all applicable related investigative and corrective actions before further flight. Repeat the inspection thereafter at the applicable time specified in Table 4 of this AD. Certain compliance times are applicable to short range use, AFT equal to or less than 4 hours, or long range use, AFT exceeding 4 hours.

(1) For A310-203, -204, -221, and -222 airplanes: At the earlier of the times specified in paragraphs (k)(1)(i) and (k)(1)(ii) of this AD.

(i) Within 7,940 flight cycles or 15,880 flight hours after the most recent inspection, whichever occurs first.

(ii) At the later of the times specified in paragraphs (k)(1)(ii)(A) and (k)(1)(ii)(B) of this AD.

(A) Within the applicable interval specified in Table 4 of this AD.

(B) Within 740 flight cycles or 1,480 flight hours after the effective date of this AD, whichever occurs first.

(2) For A310-304, -322, -324, and -325 short range airplanes: At the later of the times specified in paragraphs (k)(2)(i) and (k)(2)(ii) of this AD.

(i) Within the applicable interval specified in Table 4 of this AD.

(ii) Within 700 flight cycles or 1,900 flight hours after the effective date of this AD, whichever occurs first.

(3) For A310-304, -322, -324, and -325 long range airplanes: At the later of the times specified in paragraphs (k)(3)(i) and (k)(3)(ii) of this AD.

(i) Within the applicable interval specified in Table 4 of this AD.

(ii) Within 500 flight cycles or 2,500 flight hours after the effective date of this AD, whichever occurs first.

Initial and Repetitive Inspections of the Tee Fitting

(l) For airplanes on which an inspection of the left and right sides of the tee fitting has not been done in accordance with Airbus Service Bulletin A310-57-2047 as of the effective date of this AD: At the later of the times specified in paragraphs (l)(1) and (l)(2) of this AD, do a rotating probe inspection for any crack of the left and right sides of the tee fitting, and do all applicable related investigative and corrective actions, in accordance with the Accomplishment Instructions of Airbus Service Bulletin A310-57-2047, Revision 08, dated July 2, 2009; except as required by paragraphs (n) and (o) of this AD. Do all applicable related investigative and corrective actions before further flight. Repeat the inspection thereafter at the applicable time specified in Table 6 of this AD. Certain compliance times are applicable to short range use, AFT equal to or less than 4 hours, or long range use, AFT exceeding 4 hours.

(1) Within the applicable time specified in Table 5 of this AD.

(2) Within the applicable time in paragraph (l)(2)(i), (l)(2)(ii), or (l)(2)(iii) of this AD.

(i) For A310-203, -204, -221, and -222 airplanes: Within 800 flight cycles or 1,600 flight hours, whichever occurs first.

(ii) For A310-304, -322, -324, and -325 short range airplanes: Within 800 flight cycles or 2,200 flight hours, whichever occurs first.

(iii) For A310-304, -322, -324, and -325 long range airplanes: Within 600 flight cycles or 3,100 flight hours, whichever occurs first.

Table 5—Initial Inspection Tee Fitting
Model and configuration | Compliance time (whichever occurs first)
A310-203, -204, -221, and -222 airplanes on which Mod 6673S6813 is not done | Before the accumulation of 14,300 flight cycles | Within 28,700 flight hours after the effective date of this AD.
A310-203, -204, -221, and -222 airplanes on which Mod 6673S6813 is done in production | Before the accumulation of 17,500 total flight cycles | Before the accumulation of 35,000 total flight hours.
A310-203, -204, -221, and -222 airplanes on which Mod 6673S6813 is done in accordance with Airbus Service Bulletin A310-57-2035 and before the accumulation of 8,100 total flight cycles and 16,200 total flight hours | Within 17,500 flight cycles after the effective date of this AD | Within 35,000 flight hours after the effective date of this AD.
A310-203, -204, -221, and -222 airplanes on which Mod 6673S6813 is done in accordance with Airbus Service Bulletin A310-57-2035 and not before the accumulation of 8,100 total flight cycles and 16,200 total flight hours | Within 9,600 flight cycles after the effective date of this AD | Within 19,200 flight hours after the effective date of this AD.
A310-304, -322, -324, and -325 short range airplanes on which Mod 6673S6813 is not done | Within 10,800 flight cycles after the effective date of this AD | Within 30,400 flight hours after the effective date of this AD.
A310-304, -322, -324, and -325 long range airplanes on which Mod 6673S6813 is not done | Before the accumulation of 8,500 total flight cycles | Before the accumulation of 42,800 total flight hours.
A310-304, -322, -324, and -325 short range airplanes on which Mod 6673S6813 is done in production | Before the accumulation of 13,100 total flight cycles | Before the accumulation of 36,700 total flight hours.
A310-304, -322, -324, and -325 long range airplanes on which Mod 6673S6813 is done in production | Before the accumulation of 10,300 total flight cycles | Before the accumulation of 51,600 total flight hours.
A310-304, -322, -324, and -325 short range airplanes on which Mod 6673S6813 is done in accordance with Airbus Service Bulletin A310-57-2035 and before the accumulation of 5,800 total flight cycles and 16,400 total flight hours | Within 13,100 flight cycles after the effective date of this AD | Within 36,700 flight hours after the effective date of this AD.
A310-304, -322, -324, and -325 short range airplanes on which Mod 6673S6813 is done in accordance with Airbus Service Bulletin A310-57-2035 and not before the accumulation of 5,800 total flight cycles and 16,400 total flight hours | Within 7,400 flight cycles after the effective date of this AD | Within 20,900 flight hours after the effective date of this AD.
A310-304, -322, -324, and -325 long range airplanes on which Mod 6673S6813 is done in accordance with Airbus Service Bulletin A310-57-2035 and before the accumulation of 4,600 total flight cycles and 23,100 total flight hours | Within 10,300 flight cycles after the effective date of this AD | Within 51,600 flight hours after the effective date of this AD.
A310-304, -322, -324, and -325 long range airplanes on which Mod 6673S6813 is done in accordance with Airbus Service Bulletin A310-57-2035 and not before the accumulation of 4,600 total flight cycles and 23,100 total flight hours | Within 6,000 flight cycles after the effective date of this AD | Within 30,300 flight hours after the effective date of this AD.

Table 6—Repetitive Intervals
Model and configuration | Interval (not to exceed)
A310-203, -204, -221, and -222 airplanes | 9,100 flight cycles or 18,300 flight hours, whichever occurs first.
A310-304, -322, -324, and -325 short range airplanes | 7,300 flight cycles or 20,400 flight hours, whichever occurs first.
A310-304, -322, -324, and -325 long range airplanes | 5,900 flight cycles or 29,600 flight hours, whichever occurs first.

(m) For airplanes on which an inspection of the rear left and right sides of the tee fitting has been done in accordance with Airbus Service Bulletin A310-57-2047 as of the effective date of this AD: At the applicable time specified in paragraphs (m)(1) or (m)(2) of this AD, do a rotating probe inspection for any crack of the left and right sides of the tee fitting, and do all applicable related investigative and corrective actions, in accordance with the Accomplishment Instructions of Airbus Service Bulletin A310-57-2047, Revision 08, dated July 2, 2009; except as required by paragraphs (n) and (o) of this AD. Do all applicable related investigative and corrective actions before further flight. Repeat the inspection thereafter at the applicable time specified in Table 6 of this AD. Certain compliance times are applicable to short range use, AFT equal to or less than 4 hours, or long range use, AFT exceeding 4 hours.

(1) For A310-203, -204, -221, and -222 airplanes: At the earlier of the times specified in paragraphs (m)(1)(i) and (m)(1)(ii) of this AD.

(i) Within 10,800 flight cycles or 17,400 flight hours after the most recent inspection, whichever occurs first.

(ii) At the later of the times specified in paragraphs (m)(1)(ii)(A) and (m)(1)(ii)(B) of this AD.

(A) Within the applicable interval specified in Table 6 of this AD.

(B) Within 700 flight cycles or 1,500 flight hours after the effective date of this AD, whichever occurs first.

(2) For A310-304, -322, -324, and - 325 airplanes: At the later of the times specified in paragraphs (m)(2)(i) and (m)(2)(ii) of this AD.

(i) Within the applicable interval specified in Table 6 of this AD.

(ii) Within 700 flight cycles or 1,900 flight hours after the effective date of this AD, whichever occurs first.

Contact the FAA

(n) Where Airbus Service Bulletin A310-57-2047, Revision 08, dated July 2, 2009, specifies to contact the manufacturer if certain cracks are found, before further flight, repair those conditions according to a method approved by either the Manager, International Branch, ANM-116, Transport Airplane Directorate, FAA; or EASA (or its delegated agent).

No Reporting Required

(o) Although Airbus Service Bulletin A310-57-2047, Revision 08, dated July 2, 2009, specifies to submit certain information to the manufacturer, this AD does not include that requirement.

(p) Actions accomplished before the effective date of this AD in accordance with Airbus Mandatory Service Bulletin A310-57-2035, Revision 09, dated September 27, 2007, are considered acceptable for compliance with the corresponding actions specified in paragraph (g) of this AD.

(q) Actions accomplished before the effective date of this AD in accordance with the service information specified in Table 7 of this AD, are considered acceptable for compliance with the corresponding actions specified in paragraphs (j) through (m) of this AD.

Table 7—Previous Issues of Airbus Service Bulletin A310-57-2047
Document | Revision | Date
Airbus Service Bulletin A310-57-2047 | 03 | November 26, 1997.
Airbus Service Bulletin A310-57-2047 | 04 | March 5, 1999.
Airbus Service Bulletin A310-57-2047 | 05 | August 3, 2000.
Airbus Service Bulletin A310-57-2047 | 06 | July 13, 2004.
Airbus Service Bulletin A310-57-2047 | 07 | March 14, 2008.

Related AD

(r) Accomplishing a rotating probe inspection of the rear spar internal angle and the tee fitting in accordance with Airbus Service Bulletin A310-57-2047, Revision 08, dated July 2, 2009, or a service bulletin listed in Table 7 of this AD, terminates the requirements specified in paragraph (o) of AD 98-26-01.

FAA AD Differences

Note 2: This AD differs from the MCAI and/or service information as follows:

Although the MCAI or service information tells you to contact the manufacturer for repair information, paragraph (n) of this AD requires that you contact the FAA or EASA (or its delegated agent) instead.

Although the MCAI or service information tells you to submit information to the manufacturer, paragraph (o) of this AD specifies that such submittal is not required.

Other FAA AD Provisions

(s) The following provisions also apply to this AD:

(1) Alternative Methods of Compliance (AMOCs): The Manager, International Branch, ANM-116, Transport Airplane Directorate, FAA, has the authority to approve AMOCs for this AD, if requested using the procedures found in 14 CFR 39.19. Send information to ATTN: Dan Rodina, Aerospace Engineer, International Branch, ANM-116, FAA, Transport Airplane Directorate, 1601 Lind Avenue, SW., Renton, Washington 98055-4056; telephone (425) 227-2125; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) AMOCs approved previously in accordance with AD 2006-09-05, Amendment 39-14575, are approved as AMOCs for the corresponding provisions of this AD.

(3) Airworthy Product: For any requirement in this AD to obtain corrective actions from a manufacturer or other source, use these actions if they are FAA-approved. Corrective actions are considered FAA-approved if they are approved by the State of Design Authority (or their delegated agent). You are required to assure the product is airworthy before it is returned to service.

Related Information

(t) Refer to MCAI EASA Airworthiness Directive 2008-0187, dated October 10, 2008; Airbus Service Bulletin A310-57-2047, Revision 08, dated July 2, 2009; and Airbus Mandatory Service Bulletin A310-57-2035, Revision 10, dated March 25, 2008; for related information.

Material Incorporated by Reference

(u) You must use Airbus Mandatory Service Bulletin A310-57-2035, Revision 10, dated March 25, 2008; and Airbus Service Bulletin A310-57-2047, Revision 08, dated July 2, 2009; as applicable; to do the actions required by this AD, unless the AD specifies otherwise. Airbus Service Bulletin A310-57-2047 contains the following effective pages:

Page No. | Revision level shown on page | Date shown on page
1-7a, 26, 86, 88 | 08 | July 2, 2009.
7b-21, 26, 29-31, 33, 35, 38, 39, 44, 45, 95, 96 | 07 | March 14, 2008.
22-25, 37 | 06 | July 13, 2004.
27, 28, 36, 47-56, 61-74 | Original | February 26, 1991.
32, 34, 40-43, 59-60, 81-85, 87, 89-94 | 04 | March 5, 1999.
46, 75-80 | 05 | August 3, 2000.
57, 58 | 2 | January 22, 1997.

(1) The Director of the Federal Register approved the incorporation by reference of this service information under 5 U.S.C. 552(a) and 1 CFR part 51.

(2) For service information identified in this AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on October 13, 2010.
John Piccola,
Acting Manager, Transport Airplane Directorate, Aircraft Certification Service.

[FR Doc. 2010-26659 Filed 10-28-10; 8:45 am]

BILLING CODE 4910-13-P